ENVIRONMENTAL PROTECTION AGENCY

[FRL-8337-3]

Proposed Settlement Agreement, Comprehensive Environmental Response, Compensation, and Liability Act

AGENCY: Environmental Protection Agency (“EPA”).

ACTION: Notice of proposed settlement agreement; request for public comment.

SUMMARY: In accordance with section 122(i) of the Comprehensive Environmental Response, Compensation and Liability Act of 1980, as amended (“CERCLA”), 42 U.S.C. 9622(h)(i), notice is hereby given of a proposed administrative settlement pursuant to section 122(h)(1) of CERCLA. The proposed settlement is intended to resolve the potential liability under CERCLA of two (2) parties for response costs incurred by EPA or by the United States Department of Justice on behalf of EPA in connection with Operable Unit 4 (“OU4”) of the Palmerton Zinc Pile Superfund Site, Carbon County, Pennsylvania (“Site”) after January 1, 2002, through August 23, 2006.

DATES: Written comments on the proposed settlement agreement must be received by August 8, 2007.

ADDRESSES: Submit your comments, identified by Docket No. CERC-03-2007-0049-DC, by mail to the Docket Clerk (3RC00), United States Environmental Protection Agency, Region III, 1650 Arch Street, Philadelphia, Pennsylvania 19103-2029; or by e-mail to nadolski.cynthia@epa.gov.

FOR FURTHER INFORMATION CONTACT: Cynthia Nadolski (3RC43), Office of Regional Counsel, United States Environmental Protection Agency, 1650 Arch Street, Philadelphia, Pennsylvania 19103-2029; telephone: (215) 814-2673; fax number (215) 814-2603; e-mail address: nadolski.cynthia@epa.gov.

SUPPLEMENTARY INFORMATION:

I. Additional Information About the Proposed Settlement Agreement

Notice is hereby given that a proposed administrative agreement between the United States Environmental Protection Agency, CBS Operations Inc., and TCI Pacific Communications has been approved, subject to public comment, by the Department of Justice pursuant to Section 122(h)(1) of CERCLA. The administrative agreement was signed by the Director of the Hazardous Site Cleanup Division, EPA Region III, on June 15, 2007. The settlement provides for recovery of 100% of the costs incurred by EPA and the U.S. Department of Justice on behalf of EPA in connection with OU4 of the Site after January 1, 2002, through August 23, 2006, in the amount of $256,138.40.

The Environmental Protection Agency will receive written comments on the proposed administrative settlement for a period of thirty (30) days from the date of publication of this Notice. EPA or the Department of Justice may withdraw or withhold consent to the proposed settlement agreement if the comments disclose facts or considerations that indicate that such consent is inappropriate, improper, inadequate, or inconsistent with the requirements of CERCLA. Unless EPA or the Department of Justice determines, based on any comments which may be submitted, that consent to the settlement agreement should be withdrawn, the terms of the agreement will be affirmed.

II. Additional Information About Commenting on the Proposed Settlement Agreement

A. How Can I Get A Copy of the Settlement Agreement?

A copy of the proposed Agreement for Recovery of Past Response Costs can be obtained from the United States Environmental Protection Agency, Region III, Office of Regional Counsel (3RC00), 1650 Arch Street, Philadelphia, Pennsylvania 19103-2029 by contacting Cynthia Nadolski, Senior Assistant Regional Counsel, at (215) 814-2673, or via e-mail at nadolski.cynthia@epa.gov. It is important to note that EPA's policy is that public comments, whether submitted electronically or in paper, will be made available to the public unless the comment contains copyrighted material, CBI, or other information whose disclosure is restricted by statute.

B. How and To Whom Do I Submit Comments?

You may submit comments as provided in the ADDRESSES section. Please ensure that your comments are submitted within the specified comment period. Comments received after the close of the comment period will be marked “late.” EPA is not required to consider these late comments.

If you submit an electronic comment, EPA recommends that you include your name, mailing address, and e-mail address or other contact information in the body of your comment. This ensures that you can be identified as the submitter of the comment and allows EPA to contact you in case EPA cannot read your comment due to technical difficulties or needs further information on the substance of your comment. Any identifying or contact information provided in the body of a comment will be included as part of the comment. If EPA cannot read your comment due to technical difficulties and cannot contact you for clarification, EPA may not be able to consider your comment.

Dated: June 20, 2007.
James N. Webb,
Acting Director, Hazardous Site Cleanup Division, Region III.

[FR Doc. E7-13204 Filed 7-6-07; 8:45 am]

BILLING CODE 6560-50-P